DEPARTMENT OF HOMELAND SECURITY

Office of the National Protection and Programs Directorate; Office of the National Protection and Programs Directorate Submission for Reinstatement Without Change of a Previously Approved Collection; OMB Control Number 1670-0005

AGENCY: Office of the National Protection and Programs Directorate, DHS.

ACTION: 60-day notice and request for comments; Reinstatement without change of a previously approved information collection OMB Control Number 1670-0005.

SUMMARY: The Department of Homeland Security (DHS) invites the general public and other federal agencies the opportunity to comment on approved information collection request (ICR) OMB 1670-0005, Telecommunications Service Priority (TSP) System. As required by the Paperwork Reduction Act of 1995, (Pub. L. 104-13, 44 U.S.C. chapter 35) as amended by the Clinger-Cohen Act (Pub. L. 104-106), DHS is soliciting comments for the approved information collection request.

DATES: Written comments should be received on or before March 25, 2008, to be assured consideration.

ADDRESSES: Interested persons are invited to submit written comments on the proposed information collection to Deborah Bea, Program Manager, National Communications System, 245 Murray Lane, Bldg. 410, MS 8510, Washington, DC 20528-8510, Phone 703-235-5359, Fax 703-235-5806, or e-mail Deborah.bea@dhs.gov.

FOR FURTHER INFORMATION CONTACT: Interested persons are invited to submit written comments on the proposed information collection to Deborah Bea, Program Manager, National Communications System, 245 Murray Lane, Bldg. 410, MS 8510, Washington, DC 20528-8510, Phone 703-235-5359, Fax 703-235-5806, or e-mail Deborah.bea@dhs.gov.

SUPPLEMENTARY INFORMATION: The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, National Protection and Programs, Office of Infrastructure Protection.

Title: Telecommunications Service Priority (TSP) System

OMB Number: 1670-0005

Frequency: On occasion.

Affected Public: Individuals or households; businesses or other for-profit; not-for-profit institutions; State, local or tribal government; foreign government.

Estimated Number of Respondents: 28,161.

SF314 Revalidation for Service Users: 304.

SF315 Request for Service Users: 27,000.

SF317 Action Appeal for Service Users: 1.

SF318 Service Confirmation for Service Vendors: 428.

SF319 Service Reconciliation for Service Vendors: 428.

Estimated Time Per Respondent:

SF314 Revalidation for Service Users: 45 minutes.

SF315 Request for Service Users: 15 minutes.

SF317 Action Appeal for Service Users: 25 minutes.

SF318 Service Confirmation for Service Vendors: 45 minutes.

SF319 Service Reconciliation for Service Vendors: 1.0 Hour.

Total Burden Hours: 7,727.25.

SF314 Revalidation for Service Users: 228 hours.

SF315 Request for Service Users: 6,750 hours.

SF317 Action Appeal for Service Users: 25 minutes.

SF318 Service Confirmation for Service Vendors: 321 hours.

SF319 Service Reconciliation for Service Vendors: 428 hours.

Total Burden Cost: (capital/startup): $0.

Total Burden Cost: (operating/maintaining): $0 annually.

Description: The Telecommunications Service Priority (TSP) System provides telecommunications service vendors a means of identifying the services that should be restored or provisioned first in the event of an emergency or crisis; and the legal protection giving a preference to certain users over others. This critical aspect of the TSP program benefits government at all levels as well as the general public.

Dated: January 15, 2008.
Charlie Church,
Chief Information Officer, National Protection and Programs Directorate, Department of Homeland Security.

[FR Doc. E8-1252 Filed 1-24-08; 8:45 am]

BILLING CODE 4410-10-P